POSTAL SERVICE

39 CFR Part 111

Domestic Competitive Products Pricing and Mailing Standards Changes

AGENCY: Postal Service™.

ACTION: Final rule.

SUMMARY: The Postal Service is amending Mailing Standards of the United States Postal Service, Domestic Mail Manual (DMM®), to reflect changes to prices and mailing standards for competitive products.

DATES: Effective January 21, 2024.

FOR FURTHER INFORMATION CONTACT: Steven Jarboe at (202) 268-7690, Catherine Knox (202) 268-5636, or Garry Rodriguez at (202) 268-7281.

SUPPLEMENTARY INFORMATION: This final rule describes new prices and product features for competitive products, by class of mail, established by the Governors of the United States Postal Service®. New prices are available under Docket Number CP2024-52 on the Postal Regulatory Commission PRC website at http://www.prc.gov, and on the Postal Explorer® website at http://pe.usps.com.

The Postal Service will revise Mailing Standards of the United States Postal Service, Domestic Mail Manual (DMM), to reflect changes to certain prices and mailing standards for the following competitive products:

• Priority Mail Express®.

• Priority Mail®.

• USPS Ground Advantage™.

• Parcel Select®.

• Extra Services.

• Return Services.

• Mailer Services.

• Recipient Services.

• Other.

Competitive product prices and changes are identified by product as follows:

Priority Mail Express

Prices

Overall, Priority Mail Express prices will increase 5.9 percent. Priority Mail Express will continue to offer zoned and Flat Rate, Retail and Commercial pricing.

Retail prices will increase an average of 5.9 percent. The Flat Rate Envelope price will increase to $30.45, the Legal Flat Rate Envelope will increase to $30.65, and the Padded Flat Rate Envelope will increase to $31.20.

Commercial prices will increase an average of 5.9 percent.

Priority Mail

Prices

Overall, Priority Mail prices will increase 5.7 percent. Priority Mail will continue to offer zoned and Flat Rate, Retail and Commercial pricing.

Retail prices will increase an average of 5.6 percent. The Flat Rate Envelope price will increase to $9.85, the Legal Flat Rate Envelope will increase to $10.15, and the Padded Flat Rate Envelope will increase to $10.60. The Small Flat Rate Box price will increase to $10.40, and the Medium Flat Rate Boxes will increase to $18.40. The Large Flat Rate Box will increase to $24.75 and the APO/FPO/DPO Large Flat Rate Box will increase to $23.00.

Commercial prices will increase an average of 5.8 percent.

USPS Ground Advantage

Prices

Overall, USPS Ground Advantage prices will increase 5.4 percent.

USPS Ground Advantage—Retail prices will increase 5.2 percent.

USPS Ground Advantage—Commercial prices will increase 5.4 percent.

Parcel Select

Prices

The prices for Parcel Select Destination Entry will increase an average of 5.9 percent.

The prices for USPS Connect® Local will remain the same.

Parcel Select Destination Entry Pricing Enhancement

The Postal Service is revising the Parcel Select Destination Entry pricing structure to add ounce pricing increments. Parcel Select Destination Entry pricing will have 4-ounce, 8-ounce, and 12-ounce price increments (e.g., if an item weighs 12.1 ounces, the next weight (price) increment is 1 pound).

Parcel Select Lightweight Discontinued

As a result of the July 9, 2023, structural price change to Parcel Select Destination Entry and Parcel Select Lightweight to have the same four pricing entry components, Destination Delivery Unit (DDU), Destination Hub (DHub), Destination Sectional Center Facility (DSCF), and Destination Network Distribution Center (DNDC), and the new enhancement to Parcel Select Destination Entry to add 4-ounce, 8-ounce, and 12-ounce pricing increments, the Postal Service is discontinuing the Parcel Select Lightweight product.

Parcel Select Destination Entry Nonmachinable Parcel

The Postal Service is updating the dimensions (22″ x 18″ x 15″) and weight (25 lbs.) of when a parcel becomes a nonmachinable parcel under Parcel Select Destination Entry that was inadvertently omitted.

Extra Services

Adult Signature Service

Adult Signature Required and Adult Signature Restricted Delivery service prices are increasing 3.3 and 3.2 percent respectively. The price for Adult Signature Required will increase to $9.35 and Adult Signature Restricted Delivery will increase to $9.65.

Return Services

USPS Returns

USPS Returns Intelligent Mail Package Barcode and Label Compliance

The Postal Service is providing a clarification on Intelligent Mail® package barcode (IMpb®) compliance regarding USPS Returns, and a correction to USPS Returns label noncompliance.

The DMM currently provides that all commercial, Priority Mail Express, Priority Mail, and USPS Ground Advantage, pieces must bear a correct IMpb or will be assessed an IMpb noncompliance fee. The Postal Service is providing notice that the assessment of the IMpb noncompliance fee will be activated for USPS Returns effective January 21, 2024, but will delay the implementation of the collection of the IMpb noncompliance fee until May 31, 2024.

In addition, DMM subsection 505.3.1.5, Noncompliant Labels, currently provides that when noncompliant labels, including discontinued labels, are affixed to USPS Returns service packages, the permit holder will be assessed the appropriate retail USPS Ground Advantage price. With the July 9, 2023, introduction of Priority Mail Express Return service, the retail USPS Ground Advantage pricing is no longer applicable. As a result, the Postal Service is revising this subsection to provide the permit holder may be assessed the appropriate USPS Returns class of mail retail price (i.e., a Priority Mail Express Return piece will be assessed the retail Priority Mail Express price) or the IMpb noncompliance fee.

Mailer Services

Pickup on Demand Service

The Pickup on Demand® service fee will remain the same.

USPS Tracking Plus Service

The USPS Tracking Plus® service prices will remain the same.

USPS Label Delivery Service

The USPS Label Delivery Service™ prices will remain the same.

Recipient Services

Post Office Box Service

The competitive Post Office Box™ service prices will increase an average of 3.0 percent within the updated price ranges.

Premium Forwarding Service

Premium Forwarding Service® (PFS®) prices will increase between 2.9 and 3.0 percent depending on the specific price element. The enrollment fee paid at the retail counter for PFS-Residential will increase to $26.20 and the PFS-Residential, PFS-Commercial, and PFS-Local enrollment fee paid online will increase to $24.10 per application. The price of the weekly shipment charge for PFS-Residential and per container charge for PFS-Local will increase to $26.20.

USPS Package Intercept

The USPS Package Intercept® fee will increase 2.9 percent to $17.50.

Other

Address Enhancement Service

Address Enhancement Service competitive product prices will increase between 2.9 and 3.1 percent.

Small Parcel Forwarding Fee

The small parcel forwarding fee will remain the same.

eVS Unmanifested Fee

The Postal Service is renaming the “eVS Unmanifested Fee” as “Unmanifested Fee” under the applicable products.

Resources

The Postal Service provides additional resources to assist customers with this price change for competitive products. These tools include price lists, downloadable price files, and Federal Register Notices, which may be found on the Postal Explorer® website at http://pe.usps.com.

The Postal Service adopts the described changes to Mailing Standards of the United States Postal Service, Domestic Mail Manual (DMM), incorporated by reference in the Code of Federal Regulations.

We will publish an appropriate amendment to 39 CFR part 111 to reflect these changes.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise Mailing Standards of the United States Postal Service, Domestic Mail Manual (DMM) as follows:

Mailing Standards of the United States Postal Service, Domestic Mail Manual (DMM)

* * * * *

200 Commercial Letters, Cards, Flats, and Parcels

201 Physical Standards

* * * * *

8.0 Additional Physical Standards by Class of Mail

* * * * *

8.5 Parcel Select

* * * * *

8.5.2 Nonmachinable Parcel Select

[Revise the text of 8.5.2 to read as follows:]

Parcel Select Destination Entry mailpieces are nonmachinable if they meet any of the following criteria:

* * * * *

[Revise the text of item a to read as follows:]

a. A parcel more than 22 inches long, 18 inches wide, or 15 inches high.

* * * * *

[Revise the text of item c to read as follows:]

c. A parcel that weighs less than 6 ounces or more than 25 pounds, except under 7.5.2 for lightweight parcels.

* * * * *

[Delete item g and renumber items h through j as items g through i.]

* * * * *

[Delete 8.5.3, Parcel Select Lightweight, in its entirety and renumber 8.5.4 as 8.5.3.]

* * * * *

202 Elements on the Face of a Mailpiece

* * * * *

3.0 Placement and Content of Mail Markings

* * * * *

3.7 Parcel Select, Bound Printed Matter, Media Mail, and Library Mail Markings

3.7.1 Basic Markings

[Revise the first sentence in the introductory text of 3.7.1 to read as follows:]

The basic required marking (i.e., “Parcel Select”, “USPS Connect Local”, “Bound Printed Matter”, “Media Mail”, “Library Mail”) must be printed on each piece claimed at the respective price. * * *

* * * * *

3.7.2 Parcel Select Markings

* * * The following product markings are required:

* * * * *

[Delete item b and renumber item c as item b.]

* * * * *

204 Barcode Standards

* * * * *

3.0 Standards for Barcoded Tray Labels, Sack Labels, and Container Labels

* * * * *

3.2.4 3-Digit Content Identifier Numbers

* * * * *

Exhibit 3.2.4 [1-22-23] 3-Digit Content Identifier Numbers

Class and mailing | CIN | Human-readable content line

* * * * *

Parcel Select

* * * * *

[Delete the “Parcel Select Lightweight Machinable Parcels” and “Parcel Select Lightweight Irregular Parcels” entries in their entirety.]

* * * * *

210 Commercial Mail Priority Mail Express

213 Prices and Eligibility

1.0 Prices and Fees

* * * * *

[Revise the heading and text of 1.7 to read as follows:]

1.7 Unmanifested Fee

Eligible Priority Mail Express pieces omitted from the manifest are subject to the unmanifested fee (see Notice 123—Price List), unless the piece is subject to the IMpb noncompliance fee specified in 3.2.

* * * * *

3.0 Basic Eligibility Standards for Priority Mail Express

* * * * *

3.2 IMpb Standards

[Revise the first sentence of 3.2 to read as follows:]

All Priority Mail Express pieces (outbound and returns), unless inducted through a retail transaction or a USPS self-service kiosk, or those bearing postage meter imprints and using Label 11-B, must bear an Intelligent Mail package barcode (IMpb) prepared under 204.2.0. * * *

* * * * *

220 Commercial Mail Priority Mail

223 Prices and Eligibility

1.0 Prices and Fees

* * * * *

[Revise the heading and text of 1.9 to read as follows:]

1.9 Unmanifested Fee

Eligible Priority Mail pieces omitted from the manifest are subject to the unmanifested piece fee (see Notice 123—Price List), unless the piece is subject to the IMpb noncompliance fee specified in 3.2.

* * * * *

3.0 Basic Eligibility Standards for Priority Mail

* * * * *

3.2 IMpb Standards

[Revise the first sentence of 3.2 to read as follows:]

Unless authorized to use a unique IMb on Priority Mail letters and flats prepared in high-speed environments, all Priority Mail pieces (outbound and returns) must bear an Intelligent Mail package barcode prepared under 204.2.0. * * *

* * * * *

250 Commercial Mail Parcel Select

253 Prices and Eligibility

1.0 Prices and Fees

* * * * *

1.1.2 Price Categories

Parcel Select mail price categories are as follows:

* * * * *

[Delete item b and renumber item c as item b.]

* * * * *

1.1.3 Price Application

The following price applications apply:

[Revise the text of 1.1.3 to read as follows:]

a. Prices for Destination Entry DNDC and Ground are based on the weight increment of each addressed piece, and the zone to which the piece is addressed as follows:

1. The price is charged at the 4-ounce, 8-ounce, 12-ounce increments. Any fraction of an ounce over the 4-ounce, 8-ounce, 12-ounce increments is rounded to the next price increment. For example, if an item weighs 4.1 ounces, the next weight (price) increment is 8 ounces, if an item weighs 12.1 ounces, the next weight (price) increment is 1 pound.

2. Per pound from 1 pound through 70 pounds. Any fraction of a pound is considered a whole pound. For example, if an item weighs 1.25 pounds, the weight (postage) increment is 2 pounds.

* * * * *

[Delete item d in its entirety,]

* * * * *

1.3 Computing Postage

1.3.1 Determining Single-Piece Weight

[Revise the third sentence of 1.3.1 to read as follows:]

* * * Except for mailers using eVS, when determining single-piece weight for Parcel Select mailpieces, express all weights in decimal pounds rounded off to two decimal places. * * *

* * * * *

[Revise the heading and text of 1.4 to read as follows:]

1.4 Unmanifested Fee

Eligible Parcel Select pieces omitted from the manifest are subject to the unmanifested fee (see Notice 123—Price List), unless the piece is subject to the IMpb noncompliance fee specified in 3.3.

* * * * *

1.7 Nonstandard Fees

[Revise the text of 1.7 to read as follows:]

A Parcel Select Destination Entry or USPS Connect Local mailpiece is subject to a nonstandard fee (see Notice 123—Price List) as follows:

* * * * *

[Revise the heading of 4.0 to read as follows:]

4.0 Price Eligibility for Parcel Select

* * * * *

[Delete 4.2, Parcel Select Lightweight, in its entirety and renumber 4.3 through 4.5 as 4.2 through 4.4.]

* * * * *

[Delete renumbered 4.4, Hold For Pickup, in its entirety.]

* * * * *

254 Postage Payment and Documentation

* * * * *

[Delete 1.1.2, Parcel Select Lightweight, in its entirety and renumber 1.1.3 as 1.1.2.]

* * * * *

255 Mail Preparation

* * * * *

[Delete 6.0, Preparing Parcel Select Lightweight, in its entirety.]

* * * * *

256 Enter and Deposit

* * * * *

2.0 Deposit

* * * * *

2.18 DNDC Parcel Select—Acceptance at Designated SCF

* * * The following standards apply:

* * * * *

[Revise the text of item b to read as follows:]

b. Bound Printed Matter machinable parcels under 266.4.4, and USPS Marketing Mail machinable parcels under 705.6.0 may be included.

* * * * *

260 Commercial Mail Bound Printed Matter

* * * * *

266 Enter and Deposit

* * * * *

4.0 Destination Network Distribution Center (DNDC) Entry

* * * * *

4.3 Acceptance at Designated SCF—Mailer Benefit

* * * The following standards apply:

* * * * *

[Revise the text of item c to read as follows:]

c. Parcel Select machinable parcels under 256.2.6, and USPS Marketing Mail machinable parcels under 705.6.0 may be included.

* * * * *

280 Commercial Mail USPS Ground Advantage—Commercial

283 Prices and Eligibility

1.0 Prices and Fees

* * * * *

[Revise the heading and text of 1.6 to read as follows:]

1.6 Unmanifested Fee

Eligible USPS Ground Advantage—Commercial pieces omitted from the manifest are subject to the unmanifested fee (see Notice 123—Price List), unless the piece is subject to the IMpb noncompliance fee specified in 3.4.

* * * * *

3.0 Basic Eligibility Standards for USPS Ground Advantage—Commercial

* * * * *

3.4 IMpb Standards

[Revise the first sentence of 3.4 to read as follows:]

All USPS Ground Advantage—Commercial parcels (outbound and returns) must bear an Intelligent Mail package barcode (IMpb) prepared under 204.2.0. * * *

* * * * *

500 Additional Mailing Services

503 Extra Services

* * * * *

1.4 Eligibility for Extra Services

* * * * *

1.4.1 Eligibility—Domestic Mail

* * * * *

Exhibit 1.4.1 Eligibility—Domestic Mail

Extra service | Eligible mail | Additional combined extra services

* * * * *

Insurance

[Under “Insurance” delete Parcel Select Lightweight in the `Eligible Mail” column.]

* * * * *

Certificate of Bulk Mailing

[Under “Certificate of Bulk Mailing” delete Parcel Select Lightweight in the `Eligible Mail” column.]

* * * * *

Return Receipt

[Under “Return Receipt” delete Parcel Select Lightweight in the `Eligible Mail” column.]

* * * * *

Signature Confirmation

[Under “Signature Confirmation” delete Parcel Select Lightweight in the `Eligible Mail” column.]

* * * * *

Signature Confirmation Restricted Delivery

[Under “Signature Confirmation Restricted Delivery” delete Parcel Select Lightweight in the `Eligible Mail” column.]

* * * * *

Adult Signature Required

[Under “Adult Signature Required” delete Parcel Select Lightweight in the `Eligible Mail” column.]

* * * * *

4.0 Insured Mail

* * * * *

[Revise the heading of 4.4 to read as follows:]

4.4 Bulk Insurance for USPS Marketing Mail

4.4.1 Eligibility

[Revise the introductory text of 4.4.1 to read as follows:]

To mail at the bulk insurance prices, for USPS Marketing Mail (except Marketing Parcels) mailers must obtain an authorization under 4.4.2 and meet the following criteria:

* * * * *

505 Return Services

* * * * *

3.0 USPS Returns Service

3.1 Basic Standards

* * * * *

3.1.5 Noncompliant Labels

[Revise the text of 3.1.5 to read as follows:]

USPS Returns service account holders must use USPS-certified labels meeting the standards in 3.1.4. When noncompliant labels, including discontinued labels, are affixed to USPS Returns service packages, the permit holder may be assessed the appropriate USPS Returns class of mail retail price (i.e., Priority Mail Express Return will be assessed the retail Priority Mail Express price) calculated from the package's initial entry point (first physical scan) in the USPS network to its delivery address or the IMpb noncompliance fee.

* * * * *

5.0 Bulk Parcel Return Service

* * * * *

5.2 Basic Standards

5.2.1 Description

[Revise the first sentence of 5.2.1 to read as follows:]

Bulk parcel return service (BPRS) allows mailers of large quantities of USPS Marketing Mail machinable parcels that are either undeliverable-as-addressed or un-opened and refused by addressees to be returned to designated postal facilities. * * *

5.2.2 Availability

A mailer may be authorized to use BPRS when the following conditions apply:

[Revise the text of items a and b to read as follows:]

a. All returned parcels are initially prepared as regular or Nonprofit USPS Marketing Mail, and are machinable parcels as defined in 201.7.5.

b. At least 10,000 USPS Marketing Mail machinable parcels will be returned to a designated postal facility during a 12-month period.

* * * * *

[Revise the text of item i to read as follows:]

i. USPS Marketing Mail parcels that qualify for a Media Mail or Library Mail price under the applicable standards, and that contain the name of the Package Service price in the mailer's ancillary service endorsement (507.1.5.3d), are not eligible for BPRS.

* * * * *

5.2.4 Application Process

To obtain a BPRS permit, a mailer must send a written request to the Postmaster at each Post Office where parcels are to be returned that includes the following:

* * * * *

[Revise the text of item b to read as follows:]

b. Information pertinent to each requested delivery point that document either the receipt of, or that there are reasonable grounds to expect, at least 10,000 machinable parcels originally mailed at regular or non-profit USPS Marketing Mail prices during the past, or next, 12 months.

* * * * *

507 Mailer Services

* * * * *

1.0 Treatment of Mail

* * * * *

1.5 Treatment for Ancillary Services by Class of Mail

* * * * *

[Revise the heading and introductory text of 1.5.3 to read as follows:]

1.5.3 USPS Marketing Mail

Undeliverable-as-addressed (UAA) USPS Marketing Mail pieces are treated as described in Exhibit 1.5.3, with these additional conditions:

[Revise the text in item a to read as follows:]

a. USPS Marketing Mail pieces are forwarded only to domestic addresses.

* * * * *

[Revise the text in items c through f to read as follows:]

c. The endorsement “Change Service Requested” is not permitted for USPS Marketing Mail pieces containing hazardous materials under 601.8.0. USPS Marketing Mail pieces containing hazardous materials must bear the endorsement “Address Service Requested,” “Forwarding Service Requested,” or “Return Service Requested.”

d. USPS Marketing Mail pieces can be forwarded or returned at the appropriate Media Mail or Library Mail price if the content of the mail qualifies as Media Mail or Library Mail under 173 or 273 and the mail is marked “Media Mail” or “Library Mail” directly below the ancillary service endorsement.

e. If a USPS Marketing Mail piece including any attachment to that piece is not opened by the addressee and the piece is endorsed “Address Service Requested,” “Forwarding Service Requested,” or “Return Service Requested,” the addressee may refuse delivery of the piece and have it returned to the sender without affixing postage. If a USPS Marketing Mail piece, or any attachment to that piece, is opened by the addressee, the addressee must affix the required postage to return the piece to the sender, except for Bulk Parcel Return Service (BPRS) pieces under 505.5.2.1.

f. USPS Marketing Mail pieces with bulk insurance must be endorsed “Address Service Requested,” “Forwarding Service Requested,” or “Return Service Requested.” USPS Marketing Mail pieces, except for Marketing parcels, with USPS Tracking must be endorsed “Address Service Requested,” “Forwarding Service Requested,” “Return Service Requested,” or “Change Service Requested”.

* * * * *

[Revise the heading of Exhibit 1.5.3 to read as follows:]

Exhibit 1.5.3 Treatment of Undeliverable USPS Marketing Mail

Mailer endorsement | USPS treatment of UAA pieces
No Endorsement 1 | In all cases:

[Revise the “Restrictions” under “No Endorsement” to read as follows:]

RESTRICTIONS:

USPS Marketing Mail pieces containing hazardous materials must bear a permissible endorsement (see 507.1.5.3c).

* * * * *

“Change Service Requested” ¹ ⁴ | OPTION 1 | (Valid for all pieces, including ACS participating pieces) If no change-of-address order on file, or if change-of-address order is on file:

* * * * *

Restrictions:

The following restrictions apply:

[Revise item 2 under “Change Service Requested Option 1” “Restrictions” to read as follows”]

(2) This endorsement is not permitted for USPS Marketing Mail pieces containing hazardous materials.

[Revise the parenthetical across from the “Option 2” heading to read as follows:]

OPTION 2 (Available via ACS only; for USPS Marketing Mail (all shapes))

If change-of-address order on file:

[Revise the first bullet under “Change Service Requested”, “Option 2”, “If change-of-address order on file:” to read as follows:]

Months 1 through 12: Piece forwarded; postage due charged to the mailer at applicable Forwarding Fee based on the piece shape for USPS Marketing Mail; separate notice of new address provided (electronic ACS fee charged).

* * * * *

1.5.4 Package Services, and Parcel Select

[Revise the introductory text of 1.5.4 to read as follows:]

Undeliverable-as-addressed (UAA) Package Services, and Parcel Select mailpieces are treated as described in Exhibit 1.5.4, with these additional conditions:

* * * * *

2.0 Forwarding

* * * * *

2.3 Postage for Forwarding

* * * * *

[Revise the heading of 2.3.5 to read as follows:]

2.3.5 USPS Marketing Mail

[Revise the first and second sentence of 2.3.5 to read as follows:]

Generally, USPS Marketing Mail is subject to collection of additional postage from the mailer when forwarding service is provided by charging the USPS Marketing Mail weighted fee on all returns. Shipper Paid Forwarding/Return (under 4.2.9) provides mailers of USPS Marketing Mail parcels an option of paying forwarding postage on those parcels, or return postage if undeliverable, at the applicable single-piece First-Class Mail, USPS Ground Advantage—Retail, or Priority Mail price, instead of the addressee paying postage due charges. * * *

2.3.6 Package Services, and Parcel Select

[Delete the second sentence of 2.3.6 referencing Parcel Select Lightweight.]

* * * * *

3.0 Hold For Pickup

* * * * *

3.2 Basic Information

* * * * *

3.2.2 Basic Eligibility

[Revise the last sentence in the introductory text of 3.2.2 to read as follows:]

* * * It is also available with commercial mailings of Priority Mail Express presented under 213.4.2 or 213.4.3, Priority Mail, USPS Ground Advantage—Commercial, and Bound Printed Matter parcels, when:

* * * * *

3.2.3 Additional Eligibility Standards

Parcels must meet these additional physical requirements:

* * * * *

[Revise the text of 3.2.3 by deleting item b in its entirety and renumbering item c as item b.]

* * * * *

4.0 Address Correction Services

* * * * *

4.2 Address Change Service (ACS)

* * * * *

4.2.9 Shipper Paid Forwarding/Return

[Revise the first sentence of 4.2.9 to read as follows:]

Shipper Paid Forwarding/Return is an ACS fulfillment vehicle which allows mailers of USPS Marketing Mail, Package Services and Parcel Select parcels to pay forwarding and/or return charges via approved ACS participant code(s) when used with “Address Service Requested” or “Change Service Requested” endorsements. * * *

* * * * *

508 Recipient Services

* * * * *

7.0 Premium Forwarding Services

* * * * *

7.2 Premium Forwarding Service Residential

* * * * *

7.2.6 Weekly Priority Mail Shipments

* * * * *

b. Mailpieces that do not fit in the shipment container, or that require a scan or signature at delivery, are scanned (when applicable) and then rerouted separately to the temporary address, subject to the following:

* * * * *

[Revise the text of item b2 to read as follows:]

2. USPS Marketing Mail parcels are rerouted separately and charged postage due at the appropriate 1-pound USPS Ground Advantage—Retail price.

* * * * *

600 Basic Standards for All Mailing Services

* * * * *

602 Addressing

* * * * *

5.0 Move Update Standards

5.1 Basic Standards

[Revise the last sentence in the introductory text of 5.1 to read as follows:]

* * * Each address, except for mail bearing an alternative address format (under 3.0), in a mailing at commercial First-Class Mail presorted or automation prices, or USPS Marketing Mail, prices is subject to the Move Update standard and must meet these requirements:

* * * * *

[Revise the text of item b to read as follows:]

b. The Move Update standard is met when an address used on a mailpiece in a mailing at any class of mail is updated under 5.2, and the same address is used in a First-Class Mail, or USPS Marketing Mail, mailing within 95 days after the address has been updated.

* * * * *

6.0 ZIP Code Accuracy Standards

6.1 Basic Standards

[Revise the introductory text of 6.1 to read as follows:]

Except for mail bearing a simplified address, addresses used on pieces in a mailing at all commercial First-Class Mail, nonbarcoded presorted Periodicals, USPS Marketing Mail, and Bound Printed Matter presorted and carrier route prices are subject to the ZIP Code accuracy standard and must meet these requirements:

* * * * *

604 Postage Payment Methods and Refunds

* * * * *

5.0 Permit Imprint (Indicia)

* * * * *

5.3 Indicia Design, Placement, and Content

* * * * *

5.3.7 USPS Marketing Mail, Parcel Select and Package Services Format

[Revise the first sentence of 5.3.7 to read as follows:]

A USPS Marketing Mail, Parcel Select, or Package Services permit imprint indicia must contain the same information required in 5.3.6, except that the USPS Marketing Mail (Standard Mail), the Parcel Select, or the applicable Package Services (Bound Printed Matter, Media Mail or Library Mail) marking must be used instead of “First-Class Mail.” * * *

* * * * *

5.3.11 Indicia Formats

* * * * *

Exhibit 5.3.11 Indicia Formats for Official Mail and Other Classes

* * * * *

Parcel Select

[Delete the “Parcel Select Lightweight” indicia example.]

* * * * *

608 Postal Information and Resources

* * * * *

7.0 Trademarks and Copyrights of the USPS

7.1 USPS Trademarks

[Delete “Parcel Select Lightweight” from the list of trademarks in 7.1.]

* * * * *

700 Special Standards

* * * * *

705 Advanced Preparation and Special Postage Payment Systems

* * * * *

6.0 Combining Mailings of USPS Marketing Mail, Package Services, and Parcel Select Parcels

6.1 Basic Standards for Combining Parcels

6.1.1 Basic Standards

[Revise the introductory text of 6.1.1 to read as follows:]

USPS Marketing Mail parcels, Package Services parcels, and Parcel Select parcels in combined mailings must meet the following standards:

* * * * *

6.2 Combining Parcels—DNDC Entry

[Revise the text of 6.2 to read as follows:]

Mailers may combine USPS Marketing Mail machinable parcels, and USPS Marketing Mail Marketing parcels weighing 6 or more ounces, with Package Services and Parcel Select machinable parcels for entry at a NDC when authorized by the USPS under 6.1.4.

6.2.1 Eligible Prices

[Revise the first sentence of 6.2.1 to read as follows:]

Combined parcels may be eligible for USPS Marketing Mail, Parcel Select DNDC/ASF, single-piece and Presorted Media Mail, single-piece and Presorted Library Mail, Bound Printed Matter DNDC, and Nonpresorted and Presorted Bound Printed Matter prices. * * *

6.2.2 Additional Standards

[Revise the introductory text of 6.2.2 to read as follows:]

USPS Marketing Mail machinable parcels, USPS Marketing Mail Marketing parcels (6 ounces or more), and Package Services and Parcel Select machinable parcels prepared for DNDC entry must meet the following conditions in addition to the basic standards in 6.1:

* * * * *

6.3 Combining Parcels—DSCF and DDU Prices

6.3.1 Qualification

Combination requirements for specific discounts and prices are as follows:

[Revise the text of items a and b to read as follows:]

a. When claiming DSCF prices, Parcel Select, USPS Marketing Mail, and Bound Printed Matter parcels may be combined with other Package Services parcels under 6.3.

b. All USPS Marketing Mail parcels may be combined with Package Services, and Parcel Select, parcels prepared for DDU prices under 6.3.

6.3.2 Preparation and Prices

Combined parcels must be prepared as follows:

* * * * *

[Revise the last sentence in the introductory text of 6.3.2b to read as follows:]

b. Parcel Select or Bound Printed Matter Qualifying for DSCF Prices. * * * All other requirements for Parcel Select DSCF prices, and USPS Marketing Mail prices, as applicable, must be met.

[Revise the last sentence of item b1 to read as follows:]

1. * * * After the minimum sack volume has been met, USPS Marketing Mail parcels may be included in the sack or in overflow sacks.

[Revise the last sentence of item b2 to read as follows:]

2. * * * After the minimum pallet volume has been met, USPS Marketing Mail parcels may be included on the pallet or in overflow sacks.

[Revise the text of items b3 and b4 to read as follows:]

3. If palletized under the alternate pallet preparation where no pallet may contain fewer than 35 pieces and 200 pounds provided the average number of pieces on pallets qualifying for the DSCF price is at least 50, USPS Marketing Mail parcels may not be combined with Package Services and Parcel Select parcels.

4. If palletized under the option to prepare 5-digit scheme or 5-digit pallets under the 36-inch-high (mail only) pallet minimum, any combination of USPS Marketing Mail, Package Services, and Parcel Select parcels may be used to meet the minimum pallet height requirement.

* * * * *

[Revise the text of item b6 to read as follows:]

6. USPS Marketing Mail parcels are eligible for presorted prices according to 243 and 253.4.3 respectively.

[Revise the introductory text of item c to read as follows:]

c. Package Services, Parcel Select, and USPS Marketing Mail, parcels qualifying for DDU prices:

* * * * *

6.4 Combining Package Services, Parcel Select, and USPS Marketing Mail—Optional 3-Digit SCF Entry

6.4.1 Entry at Designated SCFs

[Revise the text of 6.4.1 to read as follows:]

Mailers may deposit pieces otherwise eligible for the Package Services, Parcel Select, and USPS Marketing Mail, prices and the USPS Marketing Mail DSCF price at an SCF designated by the USPS for destination ZIP Codes listed in labeling list L607.

6.4.2 Qualification and Preparation

[Revise the introductory text of 6.4.2 to read as follows:]

Parcel Select and Bound Printed Matter machinable parcels, and USPS Marketing Mail parcels, may be prepared for entry at designated SCFs under these standards:

[Revise the text of item a to read as follows:]

a. USPS Marketing Mail parcels that weigh less than 2 ounces or that are tubes, rolls, triangles, and similar pieces may not be included.

* * * * *

[Revise the text of item d to read as follows:]

d. USPS Marketing Mail machinable parcels, and USPS Marketing Mail Marketing parcels weighing 6 ounces or more are eligible for the NDC presort level, DNDC price; USPS Marketing Mail Marketing parcels weighing less than 6 ounces and irregular USPS Marketing Mail parcels are eligible for the 3-digit presort level, DSCF price.

* * * * *

8.0 Preparing Pallets

* * * * *

8.6 Pallet Labels

* * * * *

8.6.5 Line 2 (Content Line)

* * * * *

b. Codes. The codes shown below must be used as appropriate on Line 2 of sack, tray, and pallet labels.

Content type | Code

[Delete the Parcel Select Lightweight entry in its entirety.]

* * * * *

8.10 Pallet Presort and Labeling

* * * * *

[Revise the heading of 8.10.3 to read as follows:]

8.10.3 USPS Marketing Mail—Bundles, Sacks, or Trays

[Delete the sixth sentence in the introductory text of 8.10.3 referencing Parcel Select Lightweight.]

* * * * *

[Revise the first sentence of item f to read as follows:]

f. SCF, required, permitted for bundles, trays, and sacks (irregular parcels only). The pallet may contain carrier route, automation price, and/or Presorted price mail for the 3-digit ZIP Code groups in L005. * * * * * Labeling:

[Revise the text of item f1 to read as follows:]

1. Line 1: L002, Column C.

* * * * *

[Revise the heading of 8.10.7 to read as follows:]

8.10.7 Machinable Parcels—USPS Marketing Mail, Including Marketing Parcels 6 Ounces or More

* * * Label pallets under applicable standards in 8.6 and according to Line 1 and Line 2 information below:

a. 5-digit scheme, required. * * * Labeling:

* * * * *

[Revise the text of item a2 to read as follows:]

2. Line 2: “STD 5D.”

b. 5-digit, required. * * * Labeling:

* * * * *

[Revise the text of item b2 to read as follows:]

2. Line 2: “STD 5D.”

c. SCF, optional. * * * Labeling:

* * * * *

[Revise the text of item c2 to read as follows:]

2. Line 2: “STD MACH SCF.”

d. ASF, optional. * * * Labeling:

* * * * *

[Revise the text of item d2 to read as follows:]

2. Line 2: “STD MACH ASF.”

e. NDC, required. * * * Labeling:

* * * * *

[Revise the text of item e2 to read as follows:]

2. Line 2: “STD MACH NDC.”

f. Origin NDC, required. * * * Labeling:

* * * * *

[Revise the text of item f2 to read as follows:]

2. Line 2: “STD MACH NDC.”

g. Mixed NDC, optional. * * * Labeling:

* * * * *

[Revise the text of item g2 to read as follows:]

2. Line 2: “STD MACH WKG.”

[Revise the heading of 8.10.8 to read as follows:]

8.10.8 Irregular Parcels Weighing 2 Ounces or More—USPS Marketing Mail, Including Marketing Parcels

[Delete the sixth sentence in the introductory text of 8.10.8 referencing Parcel Select Lightweight.]

* * * Preparation sequence and labeling:

a. 5-digit scheme, required. * * * Labeling:

* * * * *

[Revise the text of item a2 to read as follows:]

2. Line 2: “STD IRREG 5D”; followed by “SCHEME” (or “SCH”).”

b. 5-digit, required. * * * Labeling:

* * * * *

[Revise the text of item b2 to read as follows:]

2. Line 2: “STD IRREG 5D.”

c. SCF, required. * * * Labeling:

* * * * *

[Revise the text of items c1 and c2 to read as follows:]

1. For Line 1, L002, Column C.

2. Line 2: “STD IRREG SCF.”

d. ASF, optional. * * * Labeling:

* * * * *

[Revise the text of item d2 to read as follows:]

2. Line 2: “STD IRREG ASF.”

e. NDC, required. * * * Labeling:

* * * * *

[Revise the text of item e2 to read as follows:]

2. Line 2: “STD IRREG NDC.”

f. Origin NDC, required. * * * Labeling:

* * * * *

[Revise the text of item f2 to read as follows:]

2. Line 2: “STD IRREG NDC.”

g. Mixed NDC, optional. * * * Labeling:

* * * * *

[Revise the text of item g2 to read as follows:]

2. Line 2: “STD IRREG WKG.”

* * * * *

21.0 Optional Combined Parcel Mailings

21.1 Basic Standards for Combining Parcel Select, Package Services, and USPS Marketing Mail Parcels

21.1.1 Basic Standards

[Revise the introductory text of 21.1.1 to read as follows:]

Package Services parcels, Parcel Select parcels, and USPS Marketing Mail parcels in a combined parcel mailing must meet the following standards:

* * * * *

d. Combined mailings must meet the following minimum volume requirements:

[Revise the text of item d1 to read as follows:]

1. USPS Marketing Mail—Minimum 200 pieces or 50 pounds of parcels per class.

* * * * *

21.3 Mail Preparation

21.3.1 Basic Standards

Prepare combined mailings as follows:

a. Different parcel types must be prepared separately for combined parcel mailings as indicated below:

[Revise the text of items a1 through a3 to read as follows:]

1. USPS Marketing Mail, Parcel Select, and Package Services machinable parcels. Use “STD/PSVC MACH” for line 2 content labeling.

2. USPS Marketing Mail, Parcel Select, and Package Services irregular parcels at least 2 ounces and up to (but not including) 6 ounces, except for tubes, rolls, triangles, and other similarly irregularly-shaped pieces. Use “STD/PSVC” for line 2 content labeling.

3. USPS Marketing Mail, Parcel Select, and Package Services tubes, rolls, triangles, and similarly irregularly-shaped parcels; and all parcels weighing less than 2 ounces. Use “STD/PSVC IRREG” for line 2 content labeling.

* * * * *

21.3.2 Combining USPS Marketing Mail, Parcel Select, and Package Services Machinable Parcels

[Revise the introductory text of 21.3.2 to read as follows:]

Prepare and enter USPS Marketing Mail, Parcel Select, and Package Services machinable parcels, and USPS Marketing Mail Marketing parcels 6 ounces or more, as combined machinable parcels as shown in the table below.

* * * * *

21.3.3 Combining USPS Marketing Mail, Parcel Select, and Package Services APPS-Machinable Parcels

[Revise the introductory text of 21.3.3 to read as follows:]

Prepare and enter USPS Marketing Mail, Parcel Select, and Package Services irregular parcels, and USPS Marketing Mail Marketing parcels (weighing at least 2 ounces, but less than 6 ounces, that are not tubes, rolls, triangles, or similarly irregularly shaped parcels) as combined APPS-machinable parcels as shown in the table below.

* * * * *

21.3.4 Combining USPS Marketing Mail, Parcel Select, and Package Services Parcels (Not APPS-Machinable)

[Revise the introductory text of 21.3.4 to read as follows:]

Prepare and enter USPS Marketing Mail, Parcel Select, and Package Services, and USPS Marketing Mail Marketing parcels under 2 ounces, as combined not APPS-machinable parcels as shown in the table below.

* * * * *

Index

* * * * *

P

* * * * *

Parcel Select

* * * * *

[Delete the “Lightweight, 253.4.0” entry.]

* * * * *

Notice 123 (Price List)

[Revise competitive prices as applicable.]

* * * * *

Sarah Sullivan,
Attorney, Ethics & Legal Compliance.

[FR Doc. 2023-25648 Filed 11-22-23; 8:45 am]

BILLING CODE 7710-12-P